DEPARTMENT OF ENERGY

Federal Energy Regulatory Commission

[Project No. 9985-033]

Rivers Electric Company, Inc.; Rivers Electric, LLC; Notice of Application for Transfer of License and Soliciting Comments, Motions To Intervene, and Protests

On August 18, 2020, Rivers Electric, LLC (transferee) filed an application for an after-the-fact transfer of license of the Mill Pond Hydroelectric Project No. 9985. The project is located on Catskill Creek, Greene County, New York.

The applicant seeks Commission approval to transfer the license for the Mill Pond Hydroelectric Project from Rivers Electric Company, Inc. (transferor) to the transferee. On June 26, 2020, Rivers Electric Company, Inc was merged into River Electric, LLC, as a result, Rivers Electric Company, Inc. is no longer active.

Applicant's Contacts: Mr. Matthew Wenger, CEO/COO, Rivers Electric, LLC, c/o Clear Energy Hydro LLC, 18 South Wilcox Street, Castle Rock, CO 80104, Phone: (303) 993-5438; Email: notices@clearenergyhydro.com, and Mr. Paul V. Nolan, Esq., 5515 17th Street North, Arlington, VA 22205, Phone: (703) 534-5509 (w), (703) 587-5895 (c), Email: pvnpvndiver@gmail.com.

FERC Contact: Anumzziatta Purchiaroni, (202) 502-6191, anumzziatta.purchiaroni@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-9985-033. Comments emailed to Commission staff are not considered part of the Commission record.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Dated: October 22, 2020.
Nathaniel J. Davis, Sr.,
Deputy Secretary.

[FR Doc. 2020-23868 Filed 10-27-20; 8:45 am]

BILLING CODE 6717-01-P